FEDERAL COMMUNICATIONS COMMISSION

47 CFR Part 73

[DA 00-1206; MM Docket No. 99-279; RM-9716]

Radio Broadcasting Services; Greeley and Broomfield, CO

AGENCY: Federal Communications Commission.

ACTION: Final rule.

SUMMARY: In response to a proposal filed on behalf of Chancellor Media/Shamrock Radio, Licensees L.L.C., the Commission reallots Channel 223C1 from Greeley to Broomfield, Colorado as that community's first local aural transmission service, and modifies the license for Station KDJM (formerly KVOD-FM) accordingly. See 64 FR 54270, October 6, 1999. Coordinates used for Channel 223C1 at Broomfield, Colorado, are 40-03-15 NL and 105-04-12 WL.

DATES: Effective July 17, 2000.

FOR FURTHER INFORMATION CONTACT: Nancy Joyner, Mass Media Bureau, (202) 418-2180.

SUPPLEMENTARY INFORMATION: This is a synopsis of the Commission's Report and Order, MM Docket No. 99-279, adopted May 24, 2000, and released June 2, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Colorado, is amended by adding Broomfield, Channel 223C1.

3. Section 73.202(b), the Table of FM Allotments under Colorado, is amended by removing Channel 223C1 at Greeley.

Federal Communications Commission.
John A. Karousos,
Chief, Allocations Branch, Policy and Rules Division, Mass Media Bureau.

[FR Doc. 00-15262 Filed 6-15-00; 8:45 am]

BILLING CODE 6712-01-P